DEPARTMENT OF TRANSPORTATION

Federal Aviation Administration

14 CFR Part 93

[Docket No. FAA-2004-17005; Amendment No. 93-91]

RIN 2120-AI17

Washington, DC Metropolitan Area Special Flight Rules Area; Correction

AGENCY: Federal Aviation Administration (FAA), DOT.

ACTION: Final rule; correction.

SUMMARY: This document corrects a recently published final rule entitled, “Washington, DC Metropolitan Area Special Flight Rules Area.” The rule codified special flight rules and airspace and flight restrictions for certain aircraft operations in the Washington, DC Metropolitan Area. A word in the codified text was incorrect. This document corrects that word.

DATES: The final rule and this correction will become effective on February 17, 2009.

FOR FURTHER INFORMATION CONTACT: Ellen Crum, Airspace and Rules Group, Office of System Operations Airspace and AIM, Federal Aviation Administration, 800 Independence Ave., SW., Washington, DC 20591; telephone (202) 267-8783.

SUPPLEMENTARY INFORMATION:

Background

On December 16, 2008, the FAA published a final rule entitled, “Washington, DC Metropolitan Area Special Flight Rules Area.” An error appeared in § 93.335 Definitions, in the definition of the term “Washington, DC Metropolitan Area Special Flight Rules Area (DC SFRA).”

Correction

In final rule FR Doc. E8-29711, published on December 16, 2008 (73 FR 76195), make the following correction.

§ 93.335 [Corrected]

On page 76214, in the first column, in the amendment for § 93.335, the definition for “Washington, DC Metropolitan Area Special Flight Rules Area (DC SFRA),” in the 10th line, remove the word “radial” and add in its place the word “radius.”

Issued in Washington, DC, on December 19, 2008.
Pamela Hamilton-Powell,
Director, Office of Rulemaking.

[FR Doc. E8-30730 Filed 12-24-08; 8:45 am]

BILLING CODE 4910-13-P